DEPARTMENT OF THE TREASURY

Bureau of Alcohol, Tobacco and Firearms

[Docket No. 925; ATF O 1130.18]

Delegation Order—Delegation of the Director's Authorities in 27 CFR Part 53, Manufacturers Excise Taxes—Firearms and Ammunition

To: All Bureau Supervisors

1. Purpose. This order delegates certain authorities of the Director to subordinate ATF officers.

2. Cancellation. ATF O 1100.160, Delegation Order—Delegation to the Associate Director (Compliance Operations) of Authorities of the Director in 27 CFR part 53, Firearms and Ammunition Excise Taxes, dated 01/12/93, is canceled.

3. Background. Under current regulations, the Director has authority to take final action on matters relating to the collection and administration of manufacturers excise taxes relating to firearms and ammunition established under Chapter 32 of the Internal Revenue Code of 1986. We have determined that certain of these authorities should, in the interest of efficiency, be delegated to a lower organizational level.

4. Delegations. Under the authority vested in the Director, Bureau of Alcohol, Tobacco and Firearms, by Treasury Department Order No. 120-03, dated November 5, 1990, and by 26 CFR 301.7701-9, this ATF order delegates certain authorities to take final action prescribed in 27 CFR part 53 to subordinate officers. Also, this ATF order prescribes the subordinate ATF officer's with whom applications, notices, and reports required by 27 CFR part 53, which are not ATF forms, are filed. The attached table identifies the regulatory sections, documents and authorized ATF officers. The authorities in the table may not be redelegated. An ATF organization chart showing the directorates involved in this delegation order has been attached.

5. Questions. Any questions concerning this order should be directed to the Regulations Division at 202-927-8210.

Bradley A. Buckles,
Director.

Table of Authorities, Documents To Be Filed, and Authorized Officials
Regulatory section | Officer(s) authorized to act or receive document
§ 53.21(a) | Chief or Deputy Chief, Regulations Division.
§ 53.23(a)&(b) | Chief or Deputy Chief, Regulations Division. If the alternate method does not affect import or export recordkeeping, Chief, National Revenue Center (NRC) may act upon the same alternate method that has been approved by the Chief or Deputy Chief, Regulations Division.
§ 53.24(a)(1) | Inspector, Specialist or Special Agent.
§ 53.24(d)(1) | Inspector, Specialist or Special Agent.
§ 53.92(b)(2) | Chief, Revenue Division.
§ 53.96(b)(4) | Chief, Revenue Division.
§ 53.115(b) | Chief, Revenue Division.
§ 53.132(c)(2)(ii) | Inspector, Specialist, or Special Agent.
§ 53.133(d)(3) | Inspector, Specialist, or Special Agent.
§ 53.134(d)(2)(ii) | Inspector, Specialist, or Special Agent.
§ 53.142(a) | Director of Industry Operations or Chief, National Revenue Center.
§ 53.151(b)(1)&(2) | Section Chief, National Revenue Center.
§ 53.155(a)&(b) | Section Chief, National Revenue Center.
§ 53.158(b)(1),(3),& (e) | Section Chief, National Revenue Center.
§ 53.159(d)(1)&(2) | Section Chief, National Revenue Center.
§ 53.172(a)(3)(ii)(A)&(B) | Chief, Revenue Division.
§ 53.172(b)(2)(iii) | Unit Supervisor, National Revenue Center.
§ 53.186(a) | Section Chief, National Revenue Center upon recommendation of Area Supervisor.

BILLING CODE 4810-31-P

[FR Doc. 01-18800 Filed 7-26-01; 8:45 am]

BILLING CODE 4810-31-C